DEPARTMENT OF AGRICULTURE

Natural Resources Conservation Service

Supplemental Watershed Plan —Environmental Assessment for the Mary's Creek Watershed Floodwater Retarding Structure No. 7; Shelby County, TN

AGENCY: Natural Resources Conservation Service (NRCS) in Tennessee, U.S. Department of Agriculture.

ACTION: Notice of a Finding of No Significant Impact.

SUMMARY: Pursuant to section 102(2)(c) of the National Environmental Policy Act of 1969; the Council on Environmental Quality Regulations (40 CFR part 1500); and the Natural Resources Conservation Service Guidelines (7 CFR part 650); the Natural Resources Conservation Service, U.S. Department of Agriculture, gives notice that an environmental impact statement is not being prepared for Supplemental Watershed Plan-Environmental Assessment for the Mary's Creek Watershed Floodwater Retarding Structure No. 7, Shelby County, Tennessee.

FOR FURTHER INFORMATION CONTACT: Kevin Brown, State Conservationist, Natural Resources Conservation Service, 675 U.S. Courthouse, 801 Broadway, Nashville, Tennessee 37203, telephone number (615) 277-2531.

SUPPLEMENTARY INFORMATION: The environmental assessment of this federally assisted action indicates that the project will not cause significant local, regional, or national impacts on the environment. As a result of these findings, Kevin Brown, State Conservationist, has determined that the preparation and review of an environmental impact statement is not needed for this project.

Mary's Creek Watershed No. 7

Notice of a Finding of No Significant Impact

The project purpose is rehabilitation of floodwater retarding structure no. 7 as authorized under Public Law 106-472, the Small Watershed Rehabilitation Amendments of 2000, which amends Public Law 83-566, the Watershed Protection and Flood Prevention Act.

The Notice of a Finding of No Significant Impact (FONSI) has been forwarded to the Environmental Protection Agency and to various Federal, State and local agencies and interested parties. A limited number of copies of the FONSI are available to fill single copy requests at the above address. Basic data developed during the environmental assessment are on file and may be reviewed by contacting Kevin Brown.

No administrative action on implementation of the proposal will be taken until 30 days after the date of this publication in the Federal Register.

Dated: September 14, 2007.
Kevin Brown,
State Conservationist.

(This activity is listed in the Catalog of Federal Domestic Assistance under NO. 10.904, Watershed Protection and Flood Prevention, and is subject to the provisions of Executive Order 12372, which requires intergovernmental consultation with State and local officials.)

[FR Doc. E7-19530 Filed 10-2-07; 8:45 am]

BILLING CODE 3410-16-P